FEDERAL COMMUNICATIONS COMMISSION

47 CFR Part 73

[DA 01-2324; MM Docket No. 01-282, RM-10293; MM Docket No. 01-283, RM-10294; MM Docket No. 01-284, RM-10295; MM Docket No. 01-285, RM-10296]

Radio Broadcasting Services; Taos, NM; McCamey, TX; Dickens, TX; and Hamlin, TX

AGENCY: Federal Communications Commission.

ACTION: Proposed rule.

SUMMARY: This document proposes four allotments in Taos, NM, McCamey, TX, Dickens, TX, and Hamlin, TX. The Commission requests comment on a petition filed by Linda Crawford proposing the allotment of Channel 228A at Taos, New Mexico, as potentially the community's fifth local aural broadcast service. Channel 228A can be allotted to Taos in compliance with the Commission's minimum distance separation requirements with a site restriction of 11.5 km (7.1 miles) northeast of Taos. The coordinates for Channel 228A at Taos are 36-28-20 North Latitude and 105-28-22 West Longitude. See Supplementary Information infra.

DATES: Comments must be filed on or before November 26, 2001, and reply comments on or before December 11, 2001.

ADDRESSES: Federal Communications Commission, Washington, DC 20554. In addition to filing comments with the FCC, interested parties should serve the petitioner as follows: Linda Crawford, 3500 Maple Avenue, #1320, Dallas, Texas 75219.

FOR FURTHER INFORMATION CONTACT: Deborah A. Dupont, Mass Media Bureau (202) 418-7072.

SUPPLEMENTARY INFORMATION: This is a synopsis of the Commission's Notice of Proposed Rule Making, MM Docket Nos. 01-282, 01-283, 01-284, and 01-285; adopted October 3, 2001 and released October 5, 2001. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Commission further requests comment on a petition filed by Linda Crawford proposing the allotment of Channel 233C3 at McCamey, Texas, as the community's second aural broadcast transmission service. Channel 233C3 can be allotted to McCamey in compliance with the Commission's minimum distance separation requirements with a site restriction of 19.9 km (12.4 miles) east of McCamey. The coordinates for Channel 233C3 at McCamey are 31-11-56 North Latitude and 102-01-42 West Longitude. The proposed allotment will require concurrence by Mexico because it is located within 320 kilometers (199 miles) of the Mexican border.

The Commission further requests comments on a petition filed by Linda Crawford, proposing the allotment of Channel 240A at Dickens, Texas, as the community's first local aural broadcast service. Channel 240A can be allotted to Dickens in compliance with the Commission's minimum distance separation requirements at center city coordinates without site restriction. The coordinates for Channel 240A at Dickens are 33-37-18 North Latitude and 100-50-10 West Longitude.

The Commission further requests comment on a petition filed by Linda Crawford proposing the allotment of Channel 283C2 at Hamlin, Texas, as the community's second FM transmission service. Channel 283C2 can be allotted to Hamlin in compliance with the Commission's minimum distance separation requirements with a site restriction of 21.5 km (13.4 miles) northwest of Hamlin. The coordinates for Channel 283C2 at Hamlin are 33-01-16 North Latitude and 100-17-23 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under New Mexico, is amended by adding Channel 228A at Taos.

3. Section 73.202(b), the Table of FM Allotments under Texas, is amended by adding Channel 233C3 at McCamey, by adding Dickens, Channel 240A, and by adding Channel 283C2 at Hamlin.

Federal Communications Commission.
John A. Karousos,
Chief, Allocations Branch, Policy and Rules Division, Mass Media Bureau.

[FR Doc. 01-26067 Filed 10-16-01; 8:45 am]

BILLING CODE 6712-01-